DEPARTMENT OF HEALTH AND HUMAN SERVICES

Centers for Disease Control and Prevention

[60Day-01-01]

Proposed Data Collections Submitted for Public Comment and Recommendations

In compliance with the requirement of section 3506(c)(2)(A) of the Paperwork Reduction Act of 1995, the Centers for Disease Control and Prevention (CDC) is providing an opportunity for public comment on proposed data collection projects. To request more information on the proposed projects or to obtain a copy of the data collection plans and instruments, call the CDC Assistant Reports Clearance Officer at 404-639-7090.

Comments are invited on: (i) Whether the proposed collection of information is necessary for the proper performance of the functions of the CDC, including whether the information shall have a practical utility; (ii) the accuracy of the agency's estimate of the burden of the proposed collection of information; (iii) ways to enhance the quality, utility, and clarity of the information to be collected; and (iv) ways to minimize the burden of the collection of information on respondents, including the use of automated collection techniques or other forms of information technology.

Send comments to Anne O'Connor, CDC Assistant Reports Clearance Officer, 1600 Clifton Road, MS-D24, Atlanta, Georgia 30333. Written comments should be received within 60 days of this notice.

Proposed Project: Health Hazard Evaluations/Technical Assistance and Emerging Problems (OMB No. 0920-0260)—Extension

National Institute for Occupational Safety and Health (NIOSH), Centers for Disease Control and Prevention (CDC).

In accordance with its mandates under the Occupational Safety and Health Act of 1970 and the Federal Mine Safety and Health Act of 1977, the National Institute for Occupational Safety and Health (NIOSH) responds each year to approximately 400 requests for health hazard evaluations to identify potential chemical, biological, or physical hazards at the workplace.

Approximately half of these requests require that NIOSH conduct a short-term field study to adequately address the issues raised by the requester. Since 1970, more than 10,000 of these studies have been completed. The main purpose of these studies is to help employers and employees identify and eliminate occupational health hazards. Ninety-five percent of these investigations respond to specific requests for assistance from employers, employees, employee representatives, or other government agencies. The remaining investigations are short-term field investigations initiated by NIOSH because it received information that a chemical, biological or physical agent may be hazardous to workers. In these investigations, NIOSH determines whether the issue warrants more detailed studies. Approximately 50% of the field investigations involve interviews or the administration of a questionnaire to the workers. Each questionnaire is specific to that workplace and its suspected diseases and/or hazards; however, questionnaires are derived from standard medical evaluation techniques. NIOSH distributes interim and final reports of the investigations, excluding personal identifiers, to requesters, employers, employee representatives, the Department of Labor (OSHA and MSHA), and, as appropriate, other state and federal agencies. Following the completion of field investigations, NIOSH administers follow-back questionnaires to employer and employee representatives at the workplace to assess program effectiveness and identify areas for improvement. Because of the large number of investigations conducted each year, the need to respond quickly to requests for assistance, and the diverse nature of these investigations, NIOSH requests clearance for data collection in these investigations. The total estimated annual cost to respondents is $40,950.

Respondents | Number of respondents | Number of response per respondent | Avg. burden total per response (in hours) | Total burden (in hours)
Employees (initial interviews) | 4,200 | 1 | .25 | 1,050
Employees (questionnaires interviews) | 5.250 | 1 | .50 | 2,625
Employees (follow-back questionnaires) | 420 | 1 | .50 | 210
Employees (follow-back questionnaires) | 420 | 1 | .50 | 210
Total |  |  |  | 4,095

Dated: October 13, 2000.
Nancy Cheal,
Acting Associate Director for Policy Planning, and Evaluation, Centers for Disease Control and Prevention (CDC).

[FR Doc. 00-26876 Filed 10-18-00; 8:45 am]

BILLING CODE 4163-18-P